DEPARTMENT OF TRANSPORTATION

Federal Aviation Administration

14 CFR Part 39

[Docket No. FAA-2005-22806; Directorate Identifier 2005-SW-04-AD]

RIN 2120-AA64

Airworthiness Directives; Bell Helicopter Textron Model 206B Helicopters

AGENCY: Federal Aviation Administration, DOT.

ACTION: Proposed rule; withdrawal.

SUMMARY: The FAA withdraws a notice of proposed rulemaking (NPRM) that proposed adopting a new airworthiness directive (AD) for Bell Helicopter Textron (Bell) Model 206B helicopters modified with Aeronautical Accessories, Inc. (AAI) Supplemental Type Certificate (STC) No. SH8435SW or SH8419SW with energy attenuating seat installation wire (energy attenuating wire). The proposed AD would have required replacing certain energy attenuating wire with airworthy energy attenuating wire. Since issuing the proposed AD, we have determined that no unsafe condition exists with respect to the STC installed energy attenuating wire. Accordingly, the proposed AD is withdrawn.

ADDRESSES: You may examine the AD docket on the Internet at http://dms.dot.gov or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-22806; the directorate identifier for this docket is 2005-SW-04-AD.

FOR FURTHER INFORMATION CONTACT: Marc Belhumeur, Aviation Safety Engineer, FAA, Rotorcraft Directorate, Rotorcraft Certification Office, Fort Worth, Texas 76193-0170, telephone (817) 222-5177, fax (817) 222-5783.

SUPPLEMENTARY INFORMATION:

Discussion

We proposed to amend part 39 of the Federal Aviation Regulations (14 CFR part 39) with an NPRM for a new AD for Bell Model 206B helicopters with AAI STC No. SH8435SW or SH8419SW. That NPRM was published in the Federal Register on October 28, 2005 (70 FR 62085). The NPRM would have required replacing energy attenuating wire manufactured or invoiced during a specified time frame. The NPRM resulted from the disclosure that certain energy attenuating wire may not have the yield strength necessary to allow seats to attenuate energy during an emergency landing. The proposed actions were intended to prevent failure of a seat to attenuate energy during an emergency landing and resulting in injury to an occupant.

Actions Since NPRM Was Issued

Since issuing the NPRM, we have determined that the seat with the affected energy attenuating wire will support the occupant adequately during an emergency landing and therefore no unsafe condition exists for Bell Model 206B helicopters modified with the two STCs.

FAA's Conclusions

Upon further consideration, we have determined that the actions proposed in the NPRM are not needed for Bell Model 206B helicopters. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2005-22806; Directorate Identifier 2005-SW-04-AD, which was published in the Federal Register on October 28, 2005 (70 FR 62085).

Issued in Fort Worth, Texas, on September 29, 2006.
Mark R. Schilling,
Acting Manager, Rotorcraft Directorate, Aircraft Certification Service.

[FR Doc. E6-17185 Filed 10-16-06; 8:45 am]

BILLING CODE 4910-13-P